DEPARTMENT OF COMMERCE

National Oceanic and Atmospheric Administration

50 CFR Part 660

[RTID 0648-XA603]

Fisheries Off West Coast States; West Coast Salmon Fisheries; Amendment 20 to the Pacific Coast Salmon Fishery Management Plan

AGENCY: National Marine Fisheries Service (NMFS), National Oceanic and Atmospheric Administration (NOAA), Commerce.

ACTION: Announcement of availability of fishery management plan amendment; request for comments.

SUMMARY: NMFS announces that the Pacific Fishery Management Council (Council) has submitted Amendment 20 to the Pacific Coast Salmon Fishery Management Plan (FMP) for review by the Secretary of Commerce. If approved, Amendment 20 would modify the preseason schedule for implementing annual management measures and would move the southern boundary of the Klamath Management Zone (KMZ) 5 nautical miles (nmi) (9.3 km) north of its current location. In addition, Amendment 20 would update out-of-date language in the FMP. NMFS will consider public comments in deciding whether to approve, disapprove, or partially approve Amendment 20. NMFS also announces the availability for public review and comment of a draft environmental assessment (EA) analyzing the environmental impacts of implementing the actions under Amendment 20.

DATES: Comments on Amendment 20 must be received by April 12, 2021.

ADDRESSES: You may submit comments on this document, identified by NOAA-NMFS-2020-0161, by any of the following method:

• Electronic Submissions: Submit all electronic public comments via the Federal e-Rulemaking Portal. Go to www.regulations.gov/#!docketDetail;D=NOAA-NMFS-2020-0161, click the “Comment Now!” icon, complete the required fields, and enter or attach your comments.

Instructions: Comments must be submitted by the above method to ensure that the comments are received, documented, and considered by NMFS. Comments sent by any other method, to any other address or individual, or received after the end of the comment period, may not be considered. All comments received are a part of the public record and will generally be posted for public viewing on www.regulations.gov without change. All personal identifying information (e.g., name, address, etc.) submitted voluntarily by the sender will be publicly accessible. Do not submit confidential business information, or otherwise sensitive or protected information. NMFS will accept anonymous comments (enter “N/A” in the required fields if you wish to remain anonymous).

The draft FMP as amended through Amendment 20, with notations showing how Amendment 20 would change the FMP, if approved, is available on the NMFS website at https://www.fisheries.noaa.gov/action/amendment-20-pacific-coast-salmon-fishery-management-plan-changes-preseason-schedule-and.

The Council and NMFS prepared a draft EA. An electronic copy of this document may be obtained from the West Coast Regional Office website at https://www.fisheries.noaa.gov/west-coast/laws-and-policies/west-coast-region-national-environmental-policy-act-documents.

FOR FURTHER INFORMATION CONTACT: Peggy Mundy at 206-526-4323.

SUPPLEMENTARY INFORMATION:

Background

The ocean salmon fisheries in the exclusive economic zone (3-200 nmi) (5.6-370.4 km) off Washington, Oregon, and California are managed under the Pacific Coast Salmon Fishery Management Plan (FMP). The Magnuson-Stevens Fishery Conservation and Management Act (MSA) requires that each regional fishery management council submit any FMP or plan amendment it prepares to NMFS for review and approval, disapproval, or partial approval by the Secretary of Commerce (Secretary). The MSA also requires that NMFS, upon receiving an FMP or amendment, immediately publish a notice that the FMP or amendment is available for public review and comment. NMFS will consider the public comments received during the comment period described above in determining whether to approve, partially approve, or disapprove Amendment 20 to the FMP.

Amendment 20 was developed by the Council to address two primary issues: The preseason schedule for setting annual management measures and the southern boundary of the KMZ in California. Under Amendment 20, the Council also recommended updating outdated language, typographical errors, and references.

Preseason Schedule

Chapter 9 of the FMP contains the schedule and procedures for preseason modification of regulations (preseason schedule). The annual preseason schedule extends from March to May. The schedule in the FMP includes the timing of announcement of meeting dates and locations for Council meetings and public hearings, the timing of Council meetings at which the Council develops its recommended management measures, and the availability of the Salmon Technical Team's (STT) analytical documents (the annual Stock Assessment and Fishery Evaluation (SAFE) document and the STT's Preseason Reports). Under the preseason schedule currently in the FMP, the Council, at its regularly scheduled meeting in early to mid-April, adopts and recommends annual management measures to NMFS for approval. If NMFS determines the management measures are consistent with the Magnuson-Stevens Act (MSA) and other applicable law, NMFS then publishes the annual management measures in the Federal Register during the first week of May, which corresponds with the traditional May 1 start date for many ocean salmon fisheries. However, it has become increasingly challenging for the Council and NMFS to complete the necessary environmental and economic analyses and regulatory documentation following the April Council meeting in time for the Secretary of Commerce to approve and implement the Council's annual recommendation by May 1.

At its September 2020 meeting, the Council adopted, as part of Amendment 20, a change in the schedule such that NMFS would publish the annual management measures in the Federal Register in the second or third week of May with an anticipated effective date of May 16. The annual management measures will include expected salmon fisheries for the following March through early May, pending modification through inseason action as needed in response to updated stock abundance forecasts. This has been the practice for March and April salmon fisheries since at least 1994.

Klamath Management Zone (KMZ) Southern Boundary

The Council uses management boundaries and zones to manage the ocean salmon harvest consistent with the objectives in the FMP. These boundaries or zones are specified in the annual management measures and may change from year to year. Some management boundaries remain relatively constant and, as described in the FMP, changes to these boundaries or zones may require special justification and documentation. The KMZ is one of these relatively constant zones and is described in section 6.1 of the FMP as extending from Humbug Mountain, OR, to Horse Mountain, CA.

Beginning in 2016, the Council received multiple requests from participants in the commercial ocean salmon fishery to move the southern boundary of the KMZ from Horse Mountain (Lat. 40°05′ N) 5 nmi north to Lat. 40°10′ N. Proponents argued this would align the salmon management boundary with an existing management boundary in the groundfish fishery, allowing for increased efficiency in fishery operations and enforcement as well as the potential to provide economic benefit to the Port of Eureka.

The Council considered the analysis of the STT regarding the impacts of the boundary change on the affected salmon stocks, developed during the 2019 methodology review, and economic analysis of the proposed boundary change during its deliberations for Amendment 20.1 2 The Council also considered the assessment of the Enforcement Consultants regarding any enforcement or safety concerns.³ At its September 2020 meeting, the Council recommended, as part of Amendment 20, moving the boundary between the KMZ and Fort Bragg management area from Lat. 40°05′ N to Lat. 40°10′ N.

¹ The STT's analysis document is available on the Council's website at: https://www.pcouncil.org/documents/2019/10/agenda-item-e-2-attachment-1-potential-implications-of-moving-the-california-klamath-management-zone-fort-bragg-salmon-fishery-management-line-from-horse-mountain-north-to-latitude-40-10.pdf/.

² The economic analysis of the proposed boundary change can be found in chapter 9 of the analysis document available on the Council's website at: https://www.pcouncil.org/documents/2019/10/agenda-item-e-2-attachment-1-potential-implications-of-moving-the-california-klamath-management-zone-fort-bragg-salmon-fishery-management-line-from-horse-mountain-north-to-latitude-40-10.pdf/.

³ The comments of the Enforcement Consultants can be found on the Council's website at: https://www.pcouncil.org/documents/2020/06/e-3-a-supplemental-ec-report-1.pdf/.

FMP Language Updates

In 2015, the Council adopted management reference points for three stocks of salmon managed under the FMP: Southern Oregon coastal Chinook salmon, Grays Harbor fall Chinook salmon, and Willapa Bay natural coho salmon. These changes were implemented through rulemaking (80 FR 19564, April 13, 2015). The reference points included in that action have been used in salmon fishery management since the final rule implementing them was promulgated. However, the current text of the FMP includes the prior reference point values that the 2015 reference points superseded. This action proposes updating the reference points.

Other updates to the FMP included in Amendment 20 include: Updates to reflect the 2013 merger of NMFS' Northwest and Southwest Regions, updates to the status and terminology of Endangered Species Act-listed salmon evolutionarily significant units, dates for updated management agreements and treaties, and updated references.

There are no implementing regulations associated with Amendment 20, therefore NMFS will not promulgate a proposed rule to implement this amendment.

All comments received by the end of the comment period on Amendment 20 (see DATES and ADDRESSES above) will be considered in the Secretary's decision to approve, disapprove, or partially approve this amendment. To be considered in this decision, comments must be received by close of business on the last day of the comment period; that does not mean postmarked or otherwise transmitted by that date.

Authority: 16 U.S.C. 1801 et seq.

Dated: February 4, 2021.
Jennifer M. Wallace,
Acting Director, Office of Sustainable Fisheries, National Marine Fisheries Service.

[FR Doc. 2021-02674 Filed 2-8-21; 8:45 am]

BILLING CODE 3510-22-P